DEPARTMENT OF DEFENSE

Office of the Secretary

[Docket ID: DoD-2023-OS-0106]

Proposed Collection; Comment Request

AGENCY: Office of the Under Secretary of Defense for Intelligence and Security, (OUSD(I&S)), Department of Defense, (DoD).

ACTION: 60-Day information collection notice.

SUMMARY: In compliance with the Paperwork Reduction Act of 1995, the All-Domain Anomaly Resolution Office, (AARO) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 2, 2024.

ADDRESSES: You may submit comments, identified by docket number and title, by any of the following methods:

Federal eRulemaking Portal: https://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at https://www.regulations.gov as they are received without change, including any personal identifiers or contact information.

FOR FURTHER INFORMATION CONTACT: To request more information on this proposed information collection or to obtain a copy of the proposal and associated collection instruments, please write to Angela Duncan, whs.mc-alex.esd.mbx.dd-dod-information-collections@mail.mil or call 571-372-7574.

SUPPLEMENTARY INFORMATION: The AARO Contact Form for Authorized Reporting information collection will be used to gather contact information, to include Personally Identifiable Information (PII), from members of the public. The collection is necessary to enable the All-domain Anomaly Resolution Office (AARO), Office of the Secretary of Defense, Department of Defense, to meet its statutory requirements. FY23 NDAA, Section 1673, “Unidentified Anomalous Phenomena Reporting Procedures” requires that the Secretary of Defense “issue clear public guidance for how to securely access the mechanism for authorized reporting” no later than 180 days from enactment, which was June 2023. Furthermore, Section 1683 of the FY23 NDAA requires AARO to produce a Historical Record Report detailing the historical record of the United States government relating to unidentified anomalous phenomena (UAP). To meet this requirement, AARO relies on the “AARO Contact Form” to receive reports from individuals with knowledge of potential UAP programs.

Title; Associated Form; and OMB Number: AARO Contact Form for Authorized Reporting; OMB Control Number 0704-0674.

Needs and Uses: The AARO Contact Form for Authorized Reporting information collection will be used to gather contact information, to include Personally Identifiable Information (PII) from members of the public. The collection is necessary to enable the All-domain Anomaly Resolution Office (AARO), Office of the Secretary of Defense, Department of Defense, to meet its statutory requirements.

The proposed information collection, AARO Contact Form for Authorized Reporting, enables AARO to comply with Section 1673 of the James M. Inhofe National Defense Authorization Act for Fiscal Year 2023 (FY23 NDAA), which directs AARO to establish a secure mechanism for authorized reporting of U.S. Government programs and activities related unidentified anomalous phenomena (UAP). The form will collect contact information from current and former U.S. Government employees, service members, and contractors who wish to make an authorized report to AARO. The collection is necessary to enable persons wanting to make a report to contact AARO directly.

The AARO Contact Form for Authorized Reporting also supports Section 1683 of the FY23 NDAA, which directs AARO to produce a Historical Record Report (HRR) on U.S. Government activities and events related to UAP from 1945 to present. Oral history interviews, records of the National Archive, open source research, and all records and documents from U.S. Government agencies are the foundational pillars of information supporting the HRR. The AARO Contact Form for Authorized Reporting enables AARO to contact individuals to schedule oral history interviews.

The respondents are current and former U.S. Government employees, service members, and contractors who want to contact AARO in furtherance of providing authorized reporting regarding potential U.S. Governments activities and events related to UAP. The respondents will be asked to voluntarily provide their contact information by completing fields and using drop down menus on a page within AARO's website (www.aaro.mil). This form is the only collection instrument, is 100 percent electronic, and is accessible by any web browser, via both desktop and mobile device. The collection is sent to AARO once the respondent clicks the “Submit” button on the website. No other communications are sent to the respondents that solicit responses. The Office of the Secretary of Defense Public Affairs will notify the public when AARO's contact form is available for use.

Information, including PII, collected from the public will be processed and stored in an electronic environment accredited to handle and secure PII. AARO will then review submitted information to prioritize potential oral history interviews of persons so that they might make an authorized report. The end result of the information collection is the successful ability of individuals to contact AARO, provide a report, and contribute to the HRR, and for AARO to meet its statutory requirements.

Affected Public: Individuals or households.

Annual Burden Hours: 208.

Number of Respondents: 2,500.

Responses Per Respondent: 1.

Annual Responses: 2,500.

Average Burden per Response: 5 minutes.

Frequency: On occasion.

Dated: October 24, 2023.
Aaron T. Siegel,
Alternate OSD Federal Register Liaison Officer, Department of Defense.

[FR Doc. 2023-24103 Filed 10-31-23; 8:45 am]

BILLING CODE 6001-FR-P